DEPARTMENT OF LABOR

Office of Labor-Management Standards

29 CFR Part 403

RIN 1215-AB29

Labor Organization Annual Financial Reports

AGENCY: Office of Labor-Management Standards, Employment Standards Administration, Labor.

ACTION: Final rule; correction.

SUMMARY: This document contains corrections to information contained in the final rule published on December 21, 1999 (64 FR 71622). That final rule made several technical changes to the annual financial reporting forms filed by labor organizations and to the Department of Labor's regulations in which the reporting forms are prescribed.

EFFECTIVE DATE: January 1, 2000.

FOR FURTHER INFORMATION CONTACT: Kay H. Oshel, Chief, Division of Interpretations and Standards, Office of Labor-Management Standards, Employment Standards Administration, U.S. Department of Labor, Room N-5605, Washington, DC 20210, (202) 693-0123 (this is not a toll-free number).

SUPPLEMENTARY INFORMATION: The final rule that is the subject of this correction made a number of minor and technical changes to the annual financial reporting forms filed by labor organizations under the Labor-Management Reporting and Disclosure Act of 1959, as amended (Forms LM-2, LM-3, and LM-4), and to the regulations in which the reporting forms are prescribed, 29 CFR part 403. The annual financial reports are also filed by federal sector labor organizations pursuant to the regulations implementing the standards of conduct provisions of the Civil Service Reform Act of 1978, 5 U.S.C. 7120, and the Foreign Service Act of 1980, 22 U.S.C. 1017. The purposes of the final rule were to (1) give notice that the Department has redesigned the reporting forms so that they can be optically scanned and made available on the Internet, and (2) revise the Department's regulations accordingly.

Two inadvertent errors were made in the “Supplementary Information” portion of the final rule of December 21, 1999. First, in describing the impact of the effective date of January 1, 2000 on the reporting requirements, it was incorrectly stated (on page 71623, in the first paragraph of the first column) that “labor organizations will file the new reporting forms and format for fiscal years beginning on and after January 1, 2000.” However, the effective date of January 1, 2000 means that the newly redesigned reporting forms are to be used by labor organizations for fiscal years ending on and after January 1, 2000 rather than for fiscal years beginning on and after January 1, 2000. Thus, for example, for a labor organization whose fiscal year ends March 31, 2000, the annual financial report is due 90 days thereafter (June 29, 2000) using the newly redesigned reporting forms.

The second inadvertent error in the “Supplementary Information” portion of the final rule is that the number of pages in the old and the redesigned Form LM-3 were incorrectly stated (on page 71622, in the second full paragraph of the second column). Form LM-3 had been two pages (not four), and is now four pages (not eight).

There were also two errors in the text of the revised regulation, 29 CFR 403.4(b), which deals with the simplified format which a parent body may use to fulfill the reporting obligation of its subordinate local labor organizations which have no assets, liabilities, receipts, or disbursements. On page 71624, in the third line of the penultimate paragraph of the second column, the reference to “29 CFR 403.4(b)(3) (i)-(vi)” should have been to “29 CFR 403.4(b)(3) (i)-(v)”. Finally, in the ninth line of that paragraph the word “and” should have been inserted before “(v)”.

Need for Correction

As published, the final rule inadvertently contains incorrect information which needs to be corrected.

Publication in Final

The undersigned has determined that this rulemaking need not be published as a proposed rule, as generally required by the Administrative Procedure Act (APA), 5 U.S.C. 553. This rulemaking makes technical and nonsubstantive corrections and imposes no additional burden on the public. Consequently, there is good cause for finding that notice and public procedure is unnecessary and contrary to the public interest, pursuant to section 553(b)(B) of the APA.

Effective Date

The undersigned has determined that good cause exists for waiving the customary requirement for delay in the effective date of a final rule for 30 days following its publication since this rule makes technical and minor corrections to a final rule which is already in effect. See 5 U.S.C. 553(d). Therefore, this final rule correction is effective on the same date as the final rule which is being corrected, January 1, 2000.

Administrative Requirements

A. Executive Order 12866

The Department of Labor has determined that this rule is not a significant regulatory action as defined in section 3(f) of Executive Order 12866 in that it will not (1) have an annual effect on the economy of $100 million or more, or adversely affect in a material way the economy, a sector of the economy, productivity, competition, jobs, the environment, public health or safety, or State, local, or tribal governments or communities, (2) create a serious inconsistency or otherwise interfere with an action taken or planned by another agency, (3) materially alter the budgetary impact of entitlements, grants, user fees, or loan programs or the rights and obligations of recipients thereof, or (4) raise novel legal or policy issues arising out of legal mandates, the President's priorities, or the principles set forth in Executive Order 12866.

B. Regulatory Flexibility Act

Because a notice of proposed rulemaking is not required for this rule under 5 U.S.C. 553(b), the requirements of the Regulatory Flexibility Act, 5 U.S.C. 601 et seq., pertaining to regulatory flexibility analysis do not apply. See 5 U.S.C. 601(2). Therefore, a regulatory flexibility analysis is not required.

C. Paperwork Reduction Act

This rule contains no additional information collection requirements. The information collection requirements in the regulations to which this rule makes technical corrections have been approved by the Office of Management and Budget (OMB control number 1215-0188).

D. Small Business Regulatory Enforcement Fairness Act

The Department has determined that this final rule is not a “major rule” requiring prior approval by the Congress and the President pursuant to the Small Business Regulatory Enforcement Fairness Act of 1996 (5 U.S.C. 804), because it is not likely to result in (1) an annual effect on the economy of $100 million or more, (2) a major increase in costs or prices for consumers, individual industries, Federal, State, or local government agencies, or geographic regions, or (3) significant adverse effects on competition, employment, investment, productivity, innovation, or the ability of United States-based enterprises to compete with foreign-based enterprises in domestic and export markets.

Further, since the Department has determined, for good cause, that publication of a proposed rule and solicitation of comments on this rule is not necessary, under 5 U.S.C. 808(2), this final rule is effective as of the date of the final rule which is being corrected, January 1, 2000, as stated previously in this notice.

E. Unfunded Mandates Reform Act

For purposes of Section 2 of the Unfunded Mandates Reform Act of 1995, 2 U.S.C. 1532, as well as Executive Order 12875 (58 FR 58093, October 28, 1993), this rule does not include any federal mandate that may result in increased expenditures by State, local and tribal governments, or increased expenditures by the private sector of more than $100 million.

F. Federalism

The Department has reviewed this rule in accordance with Executive Order 13132 regarding federalism, and has determined that it does not have “federalism implications.” The rule does not “have substantial direct effects on the States, on the relationship between the national government and the States, or on the distribution of power and responsibilities among the various levels of government.”

List of Subjects in 29 CFR Part 403

Labor unions, Reporting and recordkeeping requirements.

Correction of Publication

Accordingly, the publication on December 21, 1999 of the final rule which was the subject of FR Doc. 99-33044, is corrected as follows:

1. On page 71622, in the second full paragraph that begins in the second column, the phrase “eight pages instead of four for Form LM-3” is corrected to read “four pages instead of two for Form LM-3.”

2. On page 71623, in the first paragraph of the first column, the phrase “labor organizations will file the new reporting forms and format for fiscal years beginning on and after January 1, 2000” is corrected to read “labor organizations will file the new reporting forms and format for fiscal years ending on and after January 1, 2000.”

§ 403.4 [Corrected]

3. On page 71624, in the second column, in the third line of the paragraph which begins “Each document attached * * *”, the reference to “29 CFR 403.4(b)(3) (i)-(vi)” is corrected to read “29 CFR 403.4(b)(3) (i)-(v)”.

4. On page 71624, in the second column, in the ninth line of the paragraph which begins “Each document attached * * *”, the word “and” is inserted after “period;” and before “(v)”.

Signed in Washington, DC this 14th day of April, 2000.
Bernard E. Anderson,
Assistant Secretary for Employment Standards.

[FR Doc. 00-9911 Filed 4-19-00; 8:45 am]

BILLING CODE 4510-46-P